DEPARTMENT OF JUSTICE

[OMB 1140-0036]

Agency Information Collection Activities; Proposed eCollection eComments Requested; Revision of a Previously Approved Collection; FFL Out of Business Records Request—ATF Form 5300.3A

AGENCY: Bureau of Alcohol, Tobacco, Firearms and Explosives, Department of Justice.

ACTION: 60-Day notice.

SUMMARY: The Department of Justice (DOJ), The Bureau of Alcohol, Tobacco, Firearms and Explosives (ATF), will be submitting the following information collection request to the Office of Management and Budget (OMB) for review and approval in accordance with the Paperwork Reduction Act of 1995.

DATES: Comments are encouraged and will be accepted for 60 days until December 9, 2024.

FOR FURTHER INFORMATION CONTACT: If you have additional comments especially on the estimated public burden or associated response time, suggestions, or need a copy of the proposed information collection instrument with instructions or additional information, contact: Matthew S. Grim, NTCD/TORM, either by mail at 244 Needy Rd., Martinsburg, WV 25405 by email at matthew.grimm@atf.gov, or telephone at 304-260-3683.

SUPPLEMENTARY INFORMATION: Written comments and suggestions from the public and affected agencies concerning the proposed collection of information are encouraged. Your comments should address one or more of the following four points:

—Evaluate whether the proposed collection of information is necessary for the proper performance of the functions of the Bureau of Justice Statistics, including whether the information will have practical utility;

—Evaluate the accuracy of the agency's estimate of the burden of the proposed collection of information, including the validity of the methodology and assumptions used;

—Evaluate whether and if so how the quality, utility, and clarity of the information to be collected can be enhanced; and

—Minimize the burden of the collection of information on those who are to respond, including through the use of appropriate automated, electronic, mechanical, or other technological collection techniques or other forms of information technology, e.g., permitting electronic submission of responses.

Abstract: The form is used by ATF to notify licensees who go out of business and fail to submit their records in the prescribed time frame. The questions are simple and a return physical or email address is provided. The format is easy for the user to list the required information ATF needs to perform its function regarding laws and regulations. Upon receipt of this form, licensees are to submit their records to the ATF Out-of-Business Records or transfer them to an active FFL successor. Information collection (IC) OMB #1140-0036 is being revised to reflect minor changes in narrative text to articulate more clearly what out out-of-business records are required to be submitted, where they are to be submitted, and how they are to be submitted to the ATF OOBRC by OOB FFLs.

Overview of This Information Collection

1. Type of Information Collection: Revision of a previously approved collection.

2. The Title of the Form/Collection: FFL Out of Business Records Request.

3. The agency form number, if any, and the applicable component of the Department sponsoring the collection: Form number: ATF Form 5300.3A.

Component: Bureau of Alcohol, Tobacco, Firearms and Explosives, U.S. Department of Justice.

4. Affected public who will be asked or required to respond, as well as the obligation to respond: Affected Public: Private Sector-for or not for profit institutions.

The obligation to respond is mandatory per, 18 U.S.C. 923(g)(4), as implemented by 27 CFR 478.127.

5. An estimate of the total number of respondents and the amount of time estimated for an average respondent to respond: An estimated 3,030 respondents will respond to this collection, and it will take each respondent approximately 10 hours to complete their responses.

6. An estimate of the total annual burden (in hours) associated with the collection: The estimated annual public burden associated with this collection is 30,300, which is equal to 3,030 (total respondents) * 1 (# of response per respondent) * 10.00 (10 hours).

7. An estimate of the total annual cost burden associated with the collection, if applicable: $0.

Total Burden Hours
Activity | Number of respondents | Frequency | Total annual responses | Time per response | Total annual burden (hours)
ATF Form 5300.3A | 3,030 | 1 | 3,030 | 10 hours | 30,300
Unduplicated Totals | 3,030 | 1 | 3,030 | 10 hours | 30,300

If additional information is required contact: Darwin Arceo, Department Clearance Officer, United States Department of Justice, Justice Management Division, Policy and Planning Staff, Two Constitution Square, 145 N Street NE, 4W-218, Washington, DC.

Dated: October 2, 2024.
Darwin Arceo,
Department Clearance Officer for PRA, U.S. Department of Justice.

[FR Doc. 2024-23158 Filed 10-7-24; 8:45 am]

BILLING CODE 4410-FY-P